FEDERAL ELECTION COMMISSION

Sunshine Act Meetings

Cancellation of Previously Announced Meeting: Tuesday, June 5, 2001, 10 a.m.; Meeting closed to the public.

Date & Time: Thursday, June 7, 2001 to follow the open meeting

Place: 999 E Street, N.W., Washington, DC

Status: This meeting will be closed to the public.

Items To Be Discussed:

Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

Date & Time: Thursday, June 7, 2001 at 10 a.m.

Place: 999 E Street, NW., Washington, DC (ninth floor).

Status: This meeting will be open to the public.

Items To Be Discussed:

Correction and Approval of Minutes.

Draft Advisory Opinion 2001-07: The Nuclear Management Company Political Action Committee by George Aandahl.

Administrative Matters.

Person to contact for information: Mr. Ron Harris. Press Officer, Telephone: (202) 694-1220.

Mary W. Dove,
Secretary of the Commission.

[FR Doc. 01-13891 Filed 5-30-01; 10:30 am]

BILLING CODE 6715-01-M